DEPARTMENT OF THE INTERIOR

National Park Service

[2280-665]

National Register of Historic Places; Notification of Pending Nominations and Related Actions

Nominations for the following properties being considered for listing or related actions in the National Register were received by the National Park Service before December 18, 2010. Pursuant to sections 60.13 or 60.15 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by January 24, 2011.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ARKANSAS

Desha County

Dickinson-Moore House, 707 Robert S Moore Ave, Arkansas, 10001192

CALIFORNIA

Mariposa County

El Portal Old Schoolhouse, Chapel Lane, El Portal, 10001190

Nevada County

North Star House, 12075 Old Auburn Rd, Grass Valley, 10001191

FLORIDA

Miami-Dade County

Fowey Rocks Light, (Light Stations of the United States MPS) Offshore in Straits of Florida 6.3 mi SSE of Cape Florida on Key Biscayne, Florida, 10001181

Monroe County

American Shoal Light, (Light Stations of the United States MPS) Offshore of the lower Florida Keys, 9.6 mi SW of Summerland Key, Summerland Key, 10001189

IOWA

Dubuque County

Banner Dairy Lunch Company, (Dubuque, Iowa MPS) 756 Main St, Dubuque, 10001183

LOUISIANA

Natchitoches Parish

Flora Commissary, LA HWY 120, approximately ¼ mi W of LA HWY 478, Flora, 10001194

Orleans Parish

Bohn Motor Company Automobile Dealership, 2700 S Broad, New Orleans, 10001193

MONTANA

Big Horn County

Young, Alvin, Barn and Cabin Historic District, HC 42 Box 640, Busby, 10001188

NORTH DAKOTA

Barnes County

Amphitheater and Fieldstone WPA Features at Valley City Pioneer Park, SW of the intersection between 5th St and 8th Ave NW, Valley City, 10001195

OKLAHOMA

Murray County

Travertine Nature Center, E of SHWY 177, Sulpher, 10001180

SOUTH CAROLINA

Greenville County

Greer Post Office, 106 S Main St, Greer, 10001184

VIRGINIA

Fairfax County

Panorama, 1005 Panorama Rd, Montross, 10001186

Halifax County

Town of Halifax Court House Historic District, Main St, Cemetery St, Prizery St, Edmunds Boulevard, Mary Bethune St, Cowford Rd, Maple Ave, Church St, Cary St, Halifax, 10001187

Mathews County

Donk's Theatre, 259 Buckley Hall Rd, Hudgins, 10001185

WISCONSIN

Waukesha County

Oliver, Own and Margaret, House, W 314 S 3986 SHWY 83, Genesee, 10001182

Other Actions: Request for REMOVAL has been made for the following resources:

NORTH DAKOTA

Foster County

Lincoln Building, Off US 281, Carrington, 80002912

Burleigh County

Yegen House and Yegen's Pioneer Grocery, 808-810 E Main Ave, Bismarck, 77001023

[FR Doc. 2011-65 Filed 1-6-11; 8:45 am]

BILLING CODE 4312-51-P